DEPARTMENT OF ENERGY

Federal Energy Regulatory Commission

[Project No. 2232-566]

Duke Energy Carolinas, LLC; Notice of Availability of Environmental Assessment

February 3, 2010.

In accordance with the National Environmental Policy Act of 1969, as amended, and the Federal Energy Regulatory Commission's (Commission) regulations, (18 CFR Part 380), Commission staff has prepared an environmental assessment (EA) regarding Duke Energy Carolinas, LLC's (Duke), licensee for the Catawba-Wateree Project, request for approval of an agreement between the Town of Mooresville, North Carolina (Mooresville) and Duke, authorizing Mooresville to operate and maintain expanded water intake facilities and withdraw water from Lake Norman. The Catawba-Wateree Project (FERC No. 2232) is located on the Catawba and Wateree Rivers, in nine counties in North Carolina and five counties in South Carolina. Lake Norman is the fifth reservoir in the series of reservoirs used by the project, and is located on the Catawba River.

In its application, Duke proposes to grant an expansion of Mooresville's water intake facilities and increase Mooresville's water withdrawal rate from Lake Norman. The existing water intake structure would be expanded by connecting a new pipe to the existing water intake structure and the existing pumping plant located on Mooresville-owned property within the project boundary. Mooresville has requested that the expanded facility have a gross maximum allowable water withdrawal rate of 18 million gallons per day (MGD), a 6 MGD increase from the current approved maximum withdrawal rate of 12 MGD, as approved by the Commission on August 23, 2005. The water intake and pump facility are located in Iredell County, North Carolina.

The EA is attached to a Commission order titled, “Order Modifying and Approving Non-Project Use of Project Lands and Waters,” which was issued February 3, 2010, and is available for review at the Commission's Public Reference Room, or it may be viewed on the Commission's Web site at http://www.ferc.gov using the “eLibrary” link. Enter the docket number (P-2232) in the docket number field to access the document. For assistance with eLibrary, contact FERCOnlineSupport@ferc.gov or toll-free at (866) 208-3676; for TTY, contact (202) 502-8659.

Kimberly D. Bose,
Secretary.

[FR Doc. 2010-3101 Filed 2-18-10; 8:45 am]

BILLING CODE 6717-01-P